ENVIRONMENTAL PROTECTION AGENCY

[FRL-8534-6]

National Advisory Council for Environmental Policy and Technology Environmental Technology Subcommittee

AGENCY: Environmental Protection Agency (EPA).

ACTION: Notice of teleconference meetings.

SUMMARY: Under the Federal Advisory Committee Act, Public Law 92463, EPA gives notice of two teleconference meetings of the Environmental Technology Subcommittee of the National Advisory Council for Environmental Policy and Technology (NACEPT). NACEPT provides advice and recommendations to the Administrator of EPA on a broad range of environmental policy, technology, and management issues. The Environmental Technology Subcommittee was formed to assist EPA in evaluating its current and potential role in the development and commercialization of environmental technologies by suggesting how to optimize existing EPA programs to facilitate the development of sustainable private sector technologies, and by suggesting alternative approaches to achieving these goals. The purpose of the teleconference meetings is to discuss the Subcommittee's latest report on actions EPA can take to engage more effectively with venture capitalists, and other members of the financial services sector, who invest in the development and commercialization of environmental technologies.

DATES: The NACEPT Environmental Technology Subcommittee will hold a teleconference meeting on Tuesday, March 18 from 3 to 5 p.m. Eastern, and on Tuesday, March 25 from 3 to 5 p.m. Eastern. The teleconferences may end before 5 p.m. on both days if the Subcommittee doesn't require two full hours to complete its discussions.

ADDRESSES: Meeting rooms will not be available, and anyone wishing to participate in the teleconferences should request the call-in number and the teleconference access code from Mark Joyce at the contact information below.

FOR FURTHER INFORMATION CONTACT: Mark Joyce, Designated Federal Officer, joyce.mark@epa.gov, 202-564-2130, U.S. EPA, Office of Cooperative Environmental Management (1601M), 1200 Pennsylvania Avenue NW., Washington, DC 20460.

SUPPLEMENTARY INFORMATION: Requests to make oral comments or provide written comments to the Subcommittee should be sent to Mark Joyce, Designated Federal Officer, at the contact information above by Friday, March 14. The public is welcome to attend all portions of the teleconference meetings.

Meeting Access: For information on access or services for individuals with disabilities, please contact Mark Joyce at 202-564-2130 or joyce.mark@epa.gov. To request accommodation of a disability, please contact Mark Joyce, preferably at least 10 days prior to the meeting, to give EPA as much time as possible to process your request.

Dated: February 20, 2008.
Mark Joyce,
Designated Federal Officer.

[FR Doc. E8-3803 Filed 2-27-08; 8:45 am]

BILLING CODE 6560-50-P